DEPARTMENT OF HEALTH AND HUMAN SERVICES

National Institutes of Health

Center for Scientific Review; Amended Notice of Meeting

Notice is hereby given of a change in the meeting of the Synthetic and Biological Chemistry B Study Section, October 17, 2013, 08:00 a.m. to October 17, 2013, 08:00 p.m., Renaissance Washington DC, Dupont Circle, 1143 New Hampshire Avenue NW., Washington, DC 20037 which was published in the Federal Register on September 23, 2013, 78 FR 58323.

The meeting will be held at the National Institutes of Health, 6701 Rockledge Drive, Bethesda, MD 20892 on December 11, 2013, from 12:00 p.m. to 06:00 p.m. The meeting is closed to the public.

Dated: November 14, 2013.
Carolyn A. Baum,
Program Analyst, Office of Federal Advisory Committee Policy.

[FR Doc. 2013-27740 Filed 11-19-13; 8:45 am]

BILLING CODE 4140-01-P